DEPARTMENT OF ENERGY

[Docket Nos. CP01-409-001, CP01-410-001, CP01-411-001 and CP01-444-001]

Federal Energy Regulatory Commission

September 9, 2002.

Calypso Pipeline, LLC, and Tractebel Calypso Pipeline, LLC; Notice of Filing

Take notice that on August 30, 2002, Calypso Pipeline, LLC (Calypso) and Tractebel Calypso Pipeline, LLC (Tractebel Calypso) jointly filed an amendment in the above-referenced dockets to reflect a change in ownership associated with the applications filed on July 20, 2001, and September 19, 2001, by Calypso (Calypso Application) in the same docketed proceedings. The August 30, 2002 filing requests that the Commission accept a substitution of Tractebel Calypso as the applicant in the pending Calypso Application to reflect the change in ownership and the filed revisions to certain exhibits in the Calypso Application. These revisions reflect only a change in ownership. The application is on file with the Commission and open to public inspection. This filing is available for review at the Commission in the Public Reference Room or may be viewed on the Commission's Web site at http://www.ferc.gov using the “FERRIS” link. Enter the docket number excluding the last three digits in the docket number field to access the document. For assistance, call (202) 502-8222 or for TTY, (202) 208-1659.

By the Calypso Application, Calypso requests authorization to construct, own, and operate a new pipeline system consisting of approximately a 36 mile, 24-inch offshore segment and approximately a 5.8 mile, 24-inch onshore segment (Calypso Pipeline Project). The offshore pipeline will extend from the boundary of the U.S. Exclusive Economic Zone (EEZ) and the Bahama EEZ, off the southeast Florida coastline to shore at Port Everglades in Fort Lauderdale, Florida. The proposed onshore pipeline segment will be located in Broward County, Florida. The onshore pipeline segment will connect the offshore pipeline with Florida Gas Transmission Company's (“FGT”) existing 24-inch Lauderdale Lateral at Mile Post 1.6 in Broward County, Florida. Calypso's proposed pipeline was designed to transport up to 832,000 MMBtu per day.

Calypso and Tractebel Calypso have executed a Purchase and Sale Agreement (PSA) for the Calypso Pipeline Project. Per the PSA, Tractrebel Calypso will acquire the assets related to the Calypso Pipeline Project. Those assets consist principally of the Calypso Application; the Enron LNG Marketing, LLC Precedent Agreement; and various other surveys, permits, easements, and rights-of-way applications and engineering work product. The sale of the Calypso Pipeline Project to Tractebel Calypso ultimately is subject to the approval of the Bankruptcy Court. Tractebel Calypso will then notify the Commission of the closing of the transaction, and will thereafter be considered the applicant of record under the Calypso Application, with all the rights and responsibilities attached to such status.

Any questions regarding the application are to be directed to Michael J. Zimmer, Esq., Baker & McKenzie, 815 Connecticut Avenue, NW., Washington, DC, 20006.

There are two ways to become involved in the Commission's review of this project. First, any person wishing to obtain legal status by becoming a party to the proceedings for this project should, on or before September 30, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project.

This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

The Commission strongly encourages electronic filings of comments, protests, and interventions via the internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Magalie R. Salas,
Secretary.

[FR Doc. 02-27655 Filed 10-29-02; 8:45 am]

BILLING CODE 6717-01-P